DEPARTMENT OF COMMERCE

U.S. Census Bureau

Proposed Information Collection; Comment Request; Center for Economic Studies Research Project Management System

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before November 3, 2014.

ADDRESSES: Direct all written comments to Jennifer Jessup, Departmental Paperwork Clearance Officer, Department of Commerce, Room 6616, 14th and Constitution Avenue NW., Washington, DC 20230 (or via the Internet at jjessup@doc.gov).

FOR FURTHER INFORMATION CONTACT: Requests for additional information or copies of the information collection instrument(s) and instructions should be directed to Dr. Brian P. Holly, Senior Research Project Coordinator, Research and Methodology Directorate, U.S. Census Bureau, Room 2K273, 4600 Silver Hill Road, Washington, DC 20230 (or via the Internet at brian.p.holly@census.gov).

SUPPLEMENTARY INFORMATION:

I. Abstract

The U.S. Census Bureau through its network of Research Data Centers (RDCs) supports and encourages research activity using Census Bureau microdata to improve Census Bureau data and programs. The RDCs provide access to researchers from universities, federal and state agencies and other research institutions meeting the requirements of Title 13 United States Code, 23(c) to non-publicly available Census Bureau data files. The Center for Economic Studies operates the RDC network on behalf of the Census Bureau.

The objective of the Research Data Centers (RDCs) is to increase the utility and quality of Census Bureau data products. The external research program supported through the RDCs increases the quality and utility of Census data in several ways. First, access to microdata encourages knowledgeable researchers to become familiar with Census data products and Census data collection and processing methods. More importantly, providing qualified researchers to confidential microdata enables research projects that are not possible without access to respondent-level information. This increases the value of data already collected and promotes innovation on new data products and methods. Creative use of microdata can address important policy questions without the need for additional data collections.

In addition, the best means by which the Census Bureau can check on the quality of the data it collects, edits, and tabulates is to make its microdata records available in a controlled, secure environment to sophisticated users who, by employing the micro records in the course of rigorous analysis, will uncover the strengths and weaknesses of the micro records. Each set of observations results from many decision rules covering definitions, classifications, coding procedures, processing rules, editing rules, disclosure rules, and so on. The validity and consequences of all these decision rules only become evident when the Census Bureau's micro databases are tested in the course of analysis. Exposing to the light of research the conceptual and processing assumptions that are embedded in the Census Bureau's micro databases constitutes a core element in the Census Bureau's commitment to quality. The CES and the RDCs conduct, facilitate, and support microdata research.

The Proposal Process

Persons wishing to conduct research at a Research Data Center must submit a research proposal using the Center for Economic Studies (CES) web application (https://www.ces.census.gov). Detailed guidelines describe the research proposal submission process. Two distinct steps are required to submit a research proposal. The first step is the development of a preliminary proposal. The second step is the submission of a final proposal for review.

Preliminary Proposal Development

Researchers who wish to develop a proposal to conduct research at a Census Bureau RDC initially contact the RDC Administrator, who is a Census Bureau employee, at the center where the research will occur. The researcher discusses the proposed project with the administrator to determine whether the research fits with the Census Bureau's mission, is feasible, and is likely to provide benefits to Census Bureau programs under Title 13, Chapter 5 of the U.S. Code.

Each researcher must register as a user by means of an account in the system. Only the RDC Administrator can request the creation of a user account via a request utility in the system. All researchers must have an enabled and unlocked user account in order to submit preliminary and final proposals through the Web application.

Working closely with the RDC Administrator, researchers develop a preliminary research proposal that includes information about the researcher(s), RDC location(s) where the research will be conducted, purpose of the research, funding source(s), duration, requested dataset, a brief narrative description of the research project, and proposed Title 13, Chapter 5 benefits to the Census Bureau. This information is entered into the CES database via the Web application, resulting in a project record with a system generated unique identification number.

Upon creation of the preliminary proposal, the RDC Administrator reviews it for accuracy and completeness and advises the submitting researcher of any needed improvements. The Administrator must approve the preliminary proposal before the researcher may submit a final proposal to CES.

Final Proposal Submission

The final proposal consists of three separate documents in Adobe Acrobat Portable Document Format (PDF): (1) A one-page abstract of the proposal, (2) the project description (full proposal), and (3) a statement of benefits to the Census Bureau. The submitter uploads the final documents using the Web application and submits for formal RDC review via a button link.

Document length varies by type. The abstract is limited to one page. The proposal narrative is limited to fifteen pages single-spaced or thirty pages double-spaced. The benefits statement can range from five to as many as fifteen pages depending upon proposal scale and scope.

Progress Reports

Each project research team is required to file annual progress reports and agrees to submit a final project report called a Post Project Certification (PPC). The annual progress reports may vary in length and content, but submitters are urged to use the PPC format as described below. The Post Project Certification follows a fixed format and may be generated as a template in Rich Test Format (RTF) by the project management system.

II. Method of Collection

User Account

Each researcher affiliated with a project must have a user account in the project management system. The system contains an account management utility for new account requests and approvals, enabling and disabling accounts, locking and unlocking accounts, addition and subtraction of account privileges, and for changes to account information such as change of affiliation, email address or name. Only RDC Administrators and other authorized Census Bureau staff can submit requests using the account manager tool. All requests for new user accounts and for changes to existing accounts must be routed through RDC Administrators by researchers. Once a researcher's account has been enabled and unlocked by Census staff, he or she may gain access to the Web application for the purposes of submitting new or modified proposal documents, for checking on the status of a proposal under review, and for changing his or her password, which expires after 45 days of inactivity.

Information collected and retained in user accounts consists of first and last name, email address (the user's log on ID to the system), organizational affiliation, and whether a US citizen or not.

Research Project Information Template

Researchers with an enabled user account may create a research project entry in the system by clicking on the “New Proposal” button. This action opens a page containing a six item prerequisite checklist to which the user must agree before continuing to the next page. The second page presents a template where the user enters required information about a research project he or she wishes to conduct at a Census Research Data Center. The requested information consists of project title, field of study (selected from a drop-down list) duration in months, funding source, primary RDC location, brief project description, proposed Title 13 benefits (from a drop-down list), research personnel (selected from a presented list of current user accounts), and requested datasets (selected from a presented list). The submitter then saves the project information to the database. The system assigns a unique project number, sets the project's status to NEW, and sends an email to the RDC Administrator. The Administrator may approve the preliminary proposal, request revisions, or reject it. Upon RDC Administrator approval, the researcher is invited to submit the required proposal documents.

Research Project Documents

• Abstract—A one-page document that summarizes the project's objectives, lists requested datasets, and identifies the proposed Title 13 benefits to the Census Bureau.

• Project Narrative—Describes in detail the research question(s) to be addressed, Census Bureau and researcher provided datasets to be used, a description of the research design (methodology, hypotheses, statistical models), expected duration and outcomes, source of funding, and a list of references cited in the text.

• Predominant Purpose Statement—This document is generated in draft form by the system. It is populated with some standard language and project metadata. This is editable by the submitter, primarily to expand upon the narrative statements associated with each proposed benefit.

• Annual Progress Report—Required of all multiyear projects. It describes progress on reaching the proposed research objectives and Title 13 benefits at the end of each year.

• Post Project Certification—This document is submitted following completion of the project and summarizes the findings in terms of benefits to the Census Bureau. It resembles the Predominant Purpose Statement in form and content except that it describes how and whether the project's proposed benefits were achieved. Census Bureau staff review this document and either certify it or return it to the submitter for revision.

III. Data

OMB Control Number: 0607-0967.

Form Number(s): Not Applicable.

Type of Review: Regular submission.

Affected Public: Individuals.

Estimated Number of Respondents: 75.

Estimated Time per Response: 60.

Estimated Total Annual Burden Hours: 4,500.

Estimated Total Annual Cost to Public: $0.

Respondent's Obligation: Voluntary.

Legal Authority: Title 13 U.S. C. Section 9 and section 23(c).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 26, 2014.
Glenna Mickelson,
Management Analyst, Office of the Chief Information Officer.

[FR Doc. 2014-20680 Filed 8-29-14; 8:45 am]

BILLING CODE 3510-07-P